DEPARTMENT OF THE INTERIOR

National Park Service

[NPS-WASO-NAGPRA-NPS0038956; PPWOCRADN0-PCU00RP14.R50000]

Notice of Inventory Completion: The San Diego Archaeological Center, San Diego, CA

AGENCY: National Park Service, Interior.

ACTION: Notice.

SUMMARY: In accordance with the Native American Graves Protection and Repatriation Act (NAGPRA), the San Diego Archaeological Center has completed an inventory of human remains and associated funerary objects and has determined that there is a cultural affiliation between the human remains and associated funerary objects and Indian Tribes or Native Hawaiian organizations in this notice.

DATES: Repatriation of the human remains and associated funerary objects in this notice may occur on or after November 29, 2024.

ADDRESSES: Stephanie Sandoval, Executive Director, The San Diego Archaeological Center, 16666 San Pasqual Valley Rd., Escondido, CA 92027, telephone (760) 291-0370, email sjsandoval@sandiegoarchaeology.org.

SUPPLEMENTARY INFORMATION: This notice is published as part of the National Park Service's administrative responsibilities under NAGPRA. The determinations in this notice are the sole responsibility of the San Diego Archaeological Center, and additional information on the determinations in this notice, including the results of consultation, can be found in the inventory or related records. The National Park Service is not responsible for the determinations in this notice.

Abstract of Information Available

Based on the information available, human remains representing at least three individuals have been identified from three archaeological sites. The approximately 17,056 associated funerary objects include lithic tools, faunal bone and shell tools and ecofacts, shell beads/pendants, post-contact historic materials, samples: charcoal, seeds, vegetal materials, ceramics and pipe fragments, and crystals were removed from 13 archaeological sites. The human remains were removed from sites in San Diego County near the Cities of Julian (CA-SDI-4586), Poway (CA-SDI-6669), and Santee (CA-SDI-20778). The associated funerary objects were removed from sites throughout San Diego County, including near the Cities of Alpine (CA-SDI-14283), Campo (CA-SDI-15908), Del Mar (CA-SDI-4609), Julian (CA-SDI-4586), Poway (CA-SDI-525; CA-SDI-4606; CA-SDI-6669), San Diego (CA-SDI-39; CA-SDI-14152), and Santee (CA-SDI-20778). These collections were brought to the San Diego Archaeological Center between 1998 and 2015 for long-term curation. The human remains and associated funerary objects were unknown at the time of delivery. They were identified while preparing the collection for permanent curation. The human remains and associated funerary objects were placed in the Center's secure NAGPRA Vault, awaiting Tribal notification, consultation, and repatriation. The project reports state that these sites fall within the traditional Kumeyaay territory. No known potentially hazardous substances have been used to treat any of the human remains nor associated funerary objects.

Cultural Affiliation

Based on the information available and the results of consultation, cultural affiliation is reasonably identified by the geographical location or acquisition history of the human remains and associated funerary objects described in this notice.

Determinations

The San Diego Archaeological Center has determined that:

• The human remains described in this notice represent the physical remains of at least three individuals of Native American ancestry.

• After consultation with the Kumeyaay Cultural Repatriation Committee (KCRC) it was determined that the approximately 17,056 associated funerary objects described in this notice are reasonably believed to have been placed intentionally with or near individual Human Remains at the time of death or later as part of the death rite or ceremony.

• There is a connection between the human remains and associated funerary objects described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 29, 2024. If competing requests for repatriation are received, the San Diego Archaeological Center must determine the most appropriate requestor prior to repatriation. Requests for joint repatriation of the human remains and associated funerary objects are considered a single request and not competing requests. The San Diego Archaeological Center is responsible for sending a copy of this notice to the Indian Tribes and Native Hawaiian organizations identified in this notice.

Authority: Native American Graves Protection and Repatriation Act, 25 U.S.C. 3003, and the implementing regulations, 43 CFR 10.10.

Dated: October 25, 2024.
Melanie O'Brien,
Manager, National NAGPRA Program.

[FR Doc. 2024-25188 Filed 10-29-24; 8:45 am]

BILLING CODE 4312-52-P